DEPARTMENT OF HOMELAND SECURITY

Coast Guard

[Docket No. USCG-2023-0245]

National Commercial Fishing Safety Advisory Committee; May 2023 Meetings

AGENCY: Coast Guard, Department of Homeland Security.

ACTION: Notice of federal advisory committee meeting.

SUMMARY: The National Commercial Fishing Safety Advisory Committee (Committee) will conduct a series of meetings over three days to review, discuss, and make recommendations to the Secretary on matters relating to Marine Casualty investigation cases related to Personal Flotation Devices (PFD), Cold Water, and Falls Overboard. The meetings will be open to the public.

DATES:

Meetings: The Committee will hold a meeting on Tuesday, May 23, 2023, from 8 a.m. until 5 p.m. Eastern Daylight Time (EDT), Wednesday, May 24, 2023, from 8 a.m. until 5 p.m. EDT, and Thursday, May 25, 2023, from 8 a.m. until 5 p.m. EDT. The Committee meeting on Tuesday, May 23, 2023, from 8 a.m. until 9 a.m. will be dedicated to an administrative meeting (Committee members only). Please note these meetings may close early if the Committee has completed its business.

Comments and supporting documentation: To ensure your comments are received before the meeting, please submit your written comments no later than May 18, 2023.

ADDRESSES: The meeting will be held at the Norfolk Waterside Marriott, 235 East Main Street, Norfolk, Virginia 23510, Hotel in Downtown Norfolk, VA | Norfolk Waterside Marriott.

The National Commercial Fishing Safety Advisory Committee is committed to ensuring all participants have equal access regardless of disability status. If you require reasonable accommodation due to a disability to fully participate, please email Mr., Jonathan Wendland at Jonathan.G.Wendland@uscg.mil or call at 202-372-1245 as soon as possible.

Instructions: You are free to submit comments at any time, including orally at the meeting as time permits, but if you want your comment reviewed before the meeting, please submit your comments no later than May 18, 2023. We are particularly interested in comments regarding the topics in the “Agenda” section below. We encourage you to submit comments through Federal eRulemaking Portal at https://www.regulations.gov. If your material cannot be submitted using https://www.regulations.gov, call or email the individual in the FOR FURTHER INFORMATION CONTACT section of this document for alternate instructions. You must include the docket number [USCG-2023-0245]. Comments received will be posted without alteration at https://www.regulations.gov including any personal information provided. You may wish to review the Privacy and Security notice available on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Jonathan Wendland, Alternate Designated Federal Officer (ADFO) of the National Commercial Fishing Safety Advisory Committee, 2703 Martin Luther King Jr Ave. SE, Stop 7509, Washington, DC 20593-7509, telephone 202-372-1245 or Jonathan.G.Wendland@uscg.mil.

SUPPLEMENTARY INFORMATION: Notice of this meeting is in compliance with the Federal Advisory Committee Act, (Pub. L. 117-286, 5 U.S.C., ch. 10). The National Commercial Fishing Safety Advisory Committee is authorized by section 601 of the Frank LoBiondo Coast Guard Authorization Act of 2018, (Pub. L. 115-282, 132 Stat. 4190), and is codified in 46 U.S.C. 15102. The Committee operates under the provisions of the Federal Advisory Committee Act and 46 U.S.C. 15109. The National Commercial Fishing Safety Advisory Committee provides advice and recommendations to the Secretary of Homeland Security through the Commandant of the U. S. Coast Guard, on matters relating to the safe operation of vessels including the matters of:

(A) navigation safety;

(B) safety equipment and procedures;

(C) marine insurance;

(D) vessel design, construction, maintenance, and operation; and

(E) personnel qualifications and training;

Additionally, the Committee will review regulations proposed under chapter 45 of Title 46 of U.S Code (during preparation of the regulations) and review marine casualties and investigations of vessels covered by chapter 45 of Title 46 U.S. Code and make recommendations to the Secretary to improve safety and reduce vessel casualties.

Agenda

Day 1

The agenda for the National Commercial Fishing Safety Advisory Committee is as follows:

I. Opening

a. Call to Order/Designated Federal Officer (DFO) Remarks.

b. Roll Call/Determination of Quorum.

c. Swear in New Members.

d. U.S. Coast Guard Leadership Remarks.

II. Administration

a. Review and Adoption of Meeting Agenda.

b. Meeting Goals.

c. Roberts Rules.

III. General Updates

a. Regulatory Status.

b. U.S. Coast Guard Authorization Act.

IV. Information Session

a. USCG District Presentations.

b. NIOSH Data Presentation.

c. NIOSH Grant(s) Fishing Vessel Training & Research.

d. NIOSH Grant(s) Project Presentation.

e. Marine Casualty Initiatives.

f. Marine Casualties Presentation (CG-INV).

g. Marine Casualty Case Familiarization.

V. Public Comment period.

VI. Meeting Recess.

Day 2

VII. New Business

a. Committee Elect Chair/Vice Chair.

b. Assignment of Task #01-23: Review (11) Marine Casualty investigation cases related to Personal Flotation Devices (PFD) and make recommendations to the Secretary of Homeland Security.

c. Assignment of Task #02-23: Review (9) Marine Casualty investigation cases related to Cold Water and make recommendations to the Secretary of Homeland Security.

d. Assignment of Task #03-23: Review (2) Marine Casualty investigation cases related to Falls Overboard and make recommendations to the Secretary of Homeland Security.

VIII. Subcommittee Discussions

a. Action Items.

IX. Public Comment Period.

X. Committee Discussion/Actions.

XI. Meeting Recess.

Day 3

XII. Discussion of Subcommittee recommendations and Committee Actions.

XIII. Full Committee Open Discussion.

XIV. Public comment period.

XV. Closing Remarks/Plans for Next Meeting.

XVI. Adjournment of Meeting.

A copy of pre-meeting documentation will be available at https://www.dco.uscg.mil/NCFSAC2023/ no later than May 12, 2023. Alternatively, you may contact Mr. Jonathan Wendland as noted in the FOR FURTHER INFORMATION CONTACT section above.

There will be a public comment period scheduled each day of the meeting. Speakers are requested to limit their comments to 3 minutes. Please note that the public comment period may end before the period allotted, following the last call for comments. Please contact the individual listed in the FOR FURTHER INFORMATION CONTACT SECTION to register as a speaker.

Dated: April 19, 2023.
Andrew J. Meyers,
Captain, U.S. Coast Guard, Acting Director of Inspections and Compliance.

[FR Doc. 2023-09135 Filed 4-28-23; 8:45 am]

BILLING CODE 9110-04-P